INTERNATIONAL TRADE COMMISSION

[Investigation No. 337-TA-1357]

Certain Electronic Anti-Theft Shopping Cart Wheels, Components Thereof and Systems Containing the Same; Notice of Commission Decision Not To Review an Initial Determination Terminating the Investigation Based on Settlement; Termination of the Investigation

AGENCY: International Trade Commission.

ACTION: Notice.

SUMMARY: Notice is hereby given that the U.S. International Trade Commission has determined not to review an initial determination (“ID”) (Order No. 13) of the presiding Administrative Law Judge (“ALJ”) terminating the investigation in its entirety based on settlement. The investigation is terminated.

FOR FURTHER INFORMATION CONTACT: Houda Morad, Office of the General Counsel, U.S. International Trade Commission, 500 E Street SW, Washington, DC 20436, telephone (202) 708-4716. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On April 11, 2023, the Commission instituted this investigation under section 337 of the Tariff Act of 1930, as amended, 19 U.S.C. 1337 (“section 337”), based on a complaint filed by Gatekeeper Systems, Inc. of Foothill Ranch, California (“Complainant”). See 88 FR 21711-12 (Apr. 11, 2023). The complaint alleges a violation of section 337 based upon the importation into the United States, the sale for importation, and the sale within the United States after importation of certain electronic anti-theft shopping cart wheels, components thereof, and systems containing the same by reason of the infringement of certain claims of U.S. Patent Nos. 8,463,540; 9,091,551; 9,637,151; 11,230,313; and 11,358,621. See id. The notice of investigation names the following respondents: Rocateq International B.V. of Barendrecht, The Netherlands; Rocateq USA, LLC of San Fernando, California; and Zhuhai Rocateq Technology Company Ltd. of Zhuhai, China (collectively, “Respondents”). See id. The Office of Unfair Import Investigations is not a party to the investigation. See id.

On September 15, 2023, Complainant and Respondents jointly moved to terminate the investigation in its entirety based on settlement.

On September 18, 2023, the ALJ issued the subject ID (Order No. 13) granting the motion. The ID finds that the motion complies with Commission Rules 210.21(a) and (b), 19 CFR 210.21(a), (b). See ID at 2. Specifically, the ID notes that the joint motion includes confidential and public copies of the settlement agreement. See id. In addition, the motion states that “there are no other agreements, written or oral, express or implied, between [the parties] concerning the subject matter of this Investigation.” See id. Furthermore, in accordance with Commission Rule 210.50(b)(2), 19 CFR 210.50(b)(2), the ID finds no adverse impact on the public interest. See id. Rather, the ID notes that “the public interest generally favors settlement to avoid needless litigation and to conserve public resources.” Id.

No petition for review of the subject ID was filed.

The Commission has determined not to review the subject ID. The investigation is terminated.

The Commission's vote for this determination took place on October 12, 2023.

The authority for the Commission's determination is contained in section 337 of the Tariff Act of 1930, as amended (19 U.S.C. 1337), and in part 210 of the Commission's Rules of Practice and Procedure (19 CFR part 210).

By order of the Commission.
Issued: October 12, 2023.
Lisa Barton,
Secretary to the Commission.

[FR Doc. 2023-22891 Filed 10-16-23; 8:45 am]

BILLING CODE 7020-02-P